ENVIRONMENTAL PROTECTION AGENCY

[FRL-10020-12-OMS]

Privacy Act of 1974; System of Records

AGENCY: Science Advisory Board (SAB), Office of The Administrator (OA), Environmental Protection Agency (EPA).

ACTION: Notice of a modified system of records.

SUMMARY: The U.S. Environmental Protection Agency's (EPA), Science Advisory Board Staff Office (SABSO) is giving notice that it proposes to modify the Science Advisory Board (SAB) Database of Scientific and Technical Experts system of records, pursuant to the provisions of the Privacy Act of 1974. The system assists EPA with providing management and technical support to three scientific and technical advisory committees that report to the EPA Administrator—the SAB, the Clean Air Scientific Advisory Committee (CASAC), and the Advisory Council on Clean Air Compliance Analysis (Council). The system is being modified to change: (1) The system platform from Lotus Notes to Oracle APEX; (2) the system name from EPA Science Advisory Board (SAB) Database of Scientific and Technical Experts to Science Advisory Board Application (SABAPP); (3) to reduce the categories of records in the system; and (4) to stop collecting new records for the Council.

DATES: Persons wishing to comment on this system of records notice must do so by April 19, 2021. New routine uses for this new system of records will be effective April 19, 2021.

ADDRESSES: Submit your comments, identified by Docket ID No. EPA-HQ-OMS-2020-0472, by one of the following methods:

Regulations.gov: www.regulations.gov. Follow the online instructions for submitting comments.

Email: oei.docket@epa.gov.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2020-0472. The EPA policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA public docket, visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington. DC 20460. The Public Reading Room is open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mailand faxes. Hand deliveries and couriers may be received by scheduled appointment only. For further information on EPA Docket Center services and the current status, please visit us online at https://www.epa.gov/dockets.

FOR FURTHER INFORMATION CONTACT: Aaron Yeow; yeow.aaron@epa.gov; 202-564-2050, Physical Scientist, SAB Staff Office, U.S. Environmental Protection Agency, Mail Code 1400R, 1200 Pennsylvania Avenue NW, Washington, DC 20460.

SUPPLEMENTARY INFORMATION: The SAB Database of Scientific and Technical Experts system of records, EPA-58, is being migrated from the Lotus Notes platform to an Oracle platform as a result of the agency moving off of the Lotus Notes platform. In the process, EPA is changing the system name to Science Advisory Board Application (SABAPP) to have a more concise name. EPA is also reducing the categories of records stored in the system, as it will no longer store home contact information, e.g., address and telephone number. The SABSO no longer uses this information. The system will no longer collect new records for the Council because the committee has been retired. The existing Council records will be maintained for historical and record-keeping purposes.

SYSTEM NAME AND NUMBER:

Science Advisory Board Application (SABAPP) EPA-58.

SECURITY CLASSIFICATION:

Unclassified.

SYSTEM LOCATION:

National Computer Center (NCC), 109 TW Alexander Drive, Research Triangle Park, Durham, NC 27711.

SYSTEM MANAGER(S):

Aaron Yeow, Physical Scientist, SAB Staff Office, U.S. Environmental Protection Agency, Mail Code 1400R, 1200 Pennsylvania Avenue NW, Washington, DC 20460.

AUTHORITY FOR MAINTENANCE OF THE SYSTEM:

The authority for the establishment or appointment of these advisory committees is as follows: For the SAB, the Environmental Research, Development, and Demonstration Authorization Act (42 U.S.C. 4365); CASAC—section 109(d)(2) of the Clean Air Act (42 U.S.C. 7409(d)(2)); the Council, section 312(f) of the Clean Air Act (42 U.S.C. 7612(f)); the Paperwork Reduction Act of 1995 (44 U.S.C. 3501 et. seq.); FACA—41 CFR part 102-3; 5 U.S.C. 1104; 5 U.S.C. 1302.

PURPOSE(S) OF THE SYSTEM:

This system of records assists EPA with providing management and technical support to two active (SAB and CASAC) scientific and technical advisory committees (SAB and CASAC) that report to the EPA Administrator and to maintain historical records of a retired committee (Council). The SAB Staff Office requests nominations of experts from the public wishing to nominate themselves or others for committees and panels providing advice to the Administrator. The Staff Office will identify experts to become Special Government Employees serving on advisory committees and panels. The SAB Staff Office conducts these activities to provide the EPA Administrator with scientific advice from balanced committees of qualified experts on high priority science issues. The SABAPP will track the status of their personnel paperwork; track the status of their ethics training and financial disclosure requirements of the Ethics in Government Act; and facilitate coordination of experts' participation in approximately fifty advisory projects per year and approximately eighty meetings per year. The SABAPP assists the SAB Staff Office to achieve these goals in an efficient manner that protects the privacy of scientific experts. The SABAPP serves as the repository and tracking system for the matters listed.

CATEGORIES OF INDIVIDUALS COVERED BY SYSTEM:

Scientific and technical experts currently serving on committees and panels administered by the SAB Staff Office; scientific and technical experts who have served on such committees and panels since 2002; and scientific and technical experts nominated to serve on planned SAB Staff Office-supported committees and panels.

CATEGORIES OF RECORDS IN THE SYSTEM:

Name; professional contact information, e.g., professional title, institutional affiliation, and work contact information; dates of appointment to advisory committees and panels; expertise information, e.g., curricula vitae and professional biographical sketches; and administrative history information, e.g., history of personnel actions, history of submitting confidential financial disclosure forms, and history of completing annual ethics training.

RECORD SOURCE CATEGORIES:

The public provides names and contact information for scientific and/or technical experts to be considered for membership on the SAB and CASAC committees and panel. The individual experts themselves provide further contact information as well as their professional biosketches and curricula vitae.

ROUTINE USES OF RECORDS MAINTAINED IN THE SYSTEM, INCLUDING CATEGORIES OF USERS AND PURPOSES OF SUCH USES:

The following routine uses are both related to and compatible with the original purpose for which the information was collected. The information may be disclosed to and for the following EPA General Routine Uses published at 73 FR 2245: General routine uses A, B, C, E, F, G, H, I, J, and K apply to this system (73 FR 2245). In addition, the two routine uses below (L and M) are required under OMB M-17-12.

A. Disclosure for Law Enforcement Purposes: Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information: Information may be disclosed to any source from which additional information is requested (to the extent necessary to identify the individual, inform the source of the purpose of the request, and to identify the type of information requested,) when necessary to obtain information relevant to an agency decision concerning retention of an employee or other personnel action (other than hiring,) retention of a security clearance, the letting of a contract, or the issuance or retention of a grant, or other benefit.

C. Disclosure to Requesting Agency: Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget: Information may be disclosed to the Office of Management and Budget at any stage in the legislative coordination and clearance process in connection with private relief legislation as set forth in OMB Circular No. A-19.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

G. Disclosure to the National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints and Appeals: Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management: Information from this system of records may be disclosed to the Office of Personnel Management pursuant to that agency's responsibility for evaluation and oversight of Federal personnel management.

K. Disclosure in Connection with Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

L. Disclosure to Persons or Entities in Response to an Actual of Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to assist another agency in its efforts to respond to a breach: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PROCEDURES FOR STORAGE OF RECORDS:

These records are maintained electronically on servers located at EPA, National Computer Center (NCC), 109 TW Alexander Drive, Research Triangle Park, Durham, NC 27711. Backups will be maintained at a disaster recovery site.

POLICIES AND PRACTICES FOR RETRIEVAL OF RECORDS:

Personal information is retrieved by expert's name or by committee or panel name.

POLICIES AND PRACTICES FOR RETENTION AND DISPOSAL OF RECORDS:

Records are retained and disposed of in accordance with NARA records retention schedules appropriate to the retention of Federal Advisory Committee information, as well as EPA's Records Schedule 1024. The disposal of these records fall under the substantive committee records and are permanent.

ADMINISTRATIVE, TECHNICAL, AND PHYSICAL SAFEGUARDS:

Security controls used to protect personally identifiable information in SABAPP are commensurate with those required for an information system rated moderate for confidentiality, integrity, and availability, as prescribed in NIST Special Publication, 800-53, “Recommended Security Controls for Federal Information Systems,” Revision 4.

1. Administrative Safeguards—only authorized users needing access to the system will be granted role-based credentials to access the system. Users of EPA systems are required to complete security and privacy training on an annual basis to ensure continued access to the system.

2. Technical Safeguards—SABAPP is a password protected system requiring all users to log in to access the information in the system. It is only accessible on the EPA network using government furnished equipment. It utilizes the agency's network user-authentication process. The system times out after a period of latency ensuring a user re-authenticates their session with a username and password. The records are stored on an encrypted database.

3. Physical Safeguards—All records are maintained in secure areas and buildings with physical access controls.

RECORD ACCESS PROCEDURES:

Individuals seeking access to information in this system of records about themselves are required to provide adequate identification, e.g., driver's license, military identification card, employee badge or identification card. Additional identity verification procedures may be required, as warranted. Requests must meet the requirements of EPA regulations that implement the Privacy Act of 1974, at 40 CFR part 16.

CONTESTING RECORDS PROCEDURES:

Requests for correction or amendment must identify the record to be changed and the corrective action sought. Complete EPA Privacy Act procedures are described in EPA's Privacy Act regulations at 40 CFR part 16.

NOTIFICATION PROCEDURE:

Any individual who wants to know whether this system of records contains a record about themself, should make a written request to the Attn: Agency Privacy Officer, MC 2831T, 1200 Pennsylvania Ave. NW, Washington, DC 20460, or email privacy@epa.gov.

EXEMPTIONS PROMULGATED FOR THE SYSTEM:

None.

HISTORY:

The original system of records notice for EPA-58 was published in the Federal Register on July 13, 2009, (74 FR 33435-33437).

Vaughn Noga,
Senior Agency Official for Privacy.

[FR Doc. 2021-05655 Filed 3-18-21; 8:45 am]

BILLING CODE 6560-50-P